FEDERAL MARITIME COMMISSION

Sunshine Act Meetings

TIME AND DATE: July 27, 2022; 10:00 a.m.

PLACE: This meeting will be held at the Federal Maritime Commission at the address below and also streamed live at www.fmc.gov.

800 N Capitol Street NW, 1st Floor Hearing Room, Washington, DC

STATUS: Part of the meeting will be open to the public: held in-person with a limited capacity for public attendants and also available to view streamed live, accessible from www.fmc.gov. The rest of the meeting will be closed to the public.

Requests to register to attend the meeting in-person should be submitted to secretary@fmc.gov and contain “July 27, 2022, Commission Meeting” in the subject line. Interested members of the public have until 5:00 p.m. (Eastern) Monday, July 25, 2022, to register to attend in-person. Seating for members of the public is limited and will be available on a first-come, first-served basis for those who have registered in advance. Health and safety protocols for meeting attendees will depend on the COVID-19 Community Transmission Level for Washington DC as determined on Friday, July 22, 2022. Pre-registered attendees will be notified of the required health and safety protocols before the meeting and no later than Tuesday, July 26, 2022.

MATTERS TO BE CONSIDERED:

Portions Open to the Public

1. Staff Briefing on Ocean Shipping Reform Act of 2022

Portions Closed to the Public

2. Staff Briefing on Unreasonable Refusal to Deal or Negotiate with Respect to Vessel Space

3. Staff Update on Ocean Carrier Practices with Respect to Congestion or Related Surcharges

4. Staff Briefing on Enforcement Process and Pending Matters

CONTACT PERSON FOR MORE INFORMATION: William Cody, Secretary, (202) 523-5725.

William Cody,
Secretary.

[FR Doc. 2022-15400 Filed 7-14-22; 4:15 pm]

BILLING CODE 6730-02-P